ENVIRONMENTAL PROTECTION AGENCY

[FRL-9458-4]

Notification of a Joint Public Teleconference of the Chartered Science Advisory Board and Board of Scientific Counselors

AGENCY: Environmental Protection Agency (EPA).

ACTION: Notice of meeting.

SUMMARY: The Environmental Protection Agency (EPA) Science Advisory Board (SAB) Staff Office announces a joint public teleconference of the Chartered SAB and Board of Scientific Counselors (BOSC) to discuss a draft report providing advice on Office of Research and Development's (ORD's) new strategic directions for research.

DATES: The public teleconference will be held on Monday, September 19, 2011 from 12 p.m. to 3 p.m. (Eastern Daylight Time).

ADDRESSES: The public teleconference will be conducted by telephone only.

FOR FURTHER INFORMATION CONTACT: Any member of the public who wishes further information concerning the teleconference may contact Dr. Angela Nugent, Designated Federal Officer (DFO), EPA Science Advisory Board (1400R), U.S. Environmental Protection Agency, 1200 Pennsylvania Avenue, NW., Washington, DC 20460; via telephone/voice mail (202) 564-2218, fax (202) 565-2098; or e-mail at nugent.angela@epa.gov. General information concerning the SAB can be found on the EPA Web site at http://www.epa.gov/sab.

SUPPLEMENTARY INFORMATION: Background: The SAB was established pursuant to the Environmental Research, Development, and Demonstration Authorization Act (ERDAA), codified at 42 U.S.C. 4365, to provide independent scientific and technical advice to the Administrator on the technical basis for Agency positions and regulations. The BOSC was established by the EPA to provide advice, information, and recommendations regarding the ORD research program. The SAB and BOSC are Federal Advisory Committees chartered under the Federal Advisory Committee Act (FACA), 5 U.S.C., App. 2. Pursuant to FACA and EPA policy, notice is hereby given that the SAB and BOSC will hold a joint public teleconference to discuss a draft report providing advice on Office of Research and Development's (ORD's) new strategic directions for research. The SAB and BOSC will comply with the provisions of FACA and all appropriate SAB Staff Office procedural policies.

The Office of Research and Development is restructuring its research programs for FY 2012 to better understand environmental problems and inform sustainable solutions to meet EPA's strategic goals. The SAB and BOSC held a public meeting on June 29-30, 2011 to receive briefings and discuss draft research frameworks for ORD's six major research programs (76 FR 32198-32199). The SAB and BOSC will hold a public teleconference on September 19, 2011 to discuss their draft joint advisory report. Additional information about SAB and BOSC advice on new ORD strategic research directions can be found on the SAB Web site at http://yosemite.epa.gov/sab/sabproduct.nsf/fedrgstr_activites/Strategic%20Research%20Directions?OpenDocument.

Availability of Meeting Materials: A meeting agenda and other materials for the meeting will be placed on the SAB Web site at http://epa.gov/sab.

Procedures for Providing Public Input: Interested members of the public may submit relevant written or oral information for consideration on the topics included in this advisory activity. Oral Statements: To be placed on the public speaker list for the September 19, 2011 meeting, interested parties should notify Dr. Angela Nugent, DFO, by e-mail no later than September 15, 2011. Individuals making oral statements will be limited to five minutes per speaker. Written Statements: Written statements for the September 19, 2011 meeting should be received in the SAB Staff Office by September 15, 2011, so that the information may be made available to the SAB and BOSC for their consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Dr. Nugent at the phone number or e-mail address noted above, preferably at least ten days prior to the meeting, to give EPA as much time as possible to process your request.

Dated: August 26, 2011.
Vanessa T. Vu,
Director, EPA Science Advisory Board Staff Office.

[FR Doc. 2011-22439 Filed 8-31-11; 8:45 am]

BILLING CODE 6560-50-P